DEPARTMENT OF HOUSING AND URBAN DEVELOPMENT

Office of the Secretary

[Docket No. FR-6398-D-01]

Delegation of Concurrent Authority to the Deputy Secretary

AGENCY: Office of the Secretary, HUD.

ACTION: Notice of delegation of concurrent authority.

SUMMARY: Through this Notice, the Secretary of the Department of Housing and Urban Development delegates to the Deputy Secretary all authority vested in or delegated or assigned to the Secretary of Housing and Urban Development, with certain exceptions as described herein in Section B. This Delegation supersedes all prior Delegations of Authority to the Deputy Secretary, including the Delegation of Concurrent Authority to the Deputy Secretary published in the Federal Register on November 7, 2012.

DATES: This delegation of authority is effective June 20, 2023.

FOR FURTHER INFORMATION CONTACT: John B. Shumway, Assistant General Counsel for Administrative Law, Office of General Counsel, Department of Housing and Urban Development, Room 9244, 451 7th Street SW, Washington, DC 20410, telephone (202) 402-5190 (This is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: Under section 7(d) of the Department of Housing and Urban Development Act, the Secretary may delegate any of the Secretary's functions, powers and duties to such officers and employees of HUD as the Secretary may designate, and may authorize successive redelegations of such functions, powers and duties as determined to be necessary or appropriate. In this Delegation of Concurrent Authority issued today, the Secretary is delegating to the Deputy Secretary of Housing and Urban Development all the power and authority vested in or delegated or assigned to the Secretary of Housing and Urban Development to be exercised concurrently with the Secretary, with the exception of the power to sue and be sued and the authority to appoint Inferior Officers of the Department covered by the Appointments Clause of the United States Constitution, Art. II, section 2, cl. 2.

Accordingly, the Secretary delegates as follows:

Section A. Authority Delegated

The Deputy Secretary of Housing and Urban Development is hereby authorized, concurrently with the Secretary, to exercise all the power and authority vested in or delegated or assigned to the Secretary of Housing and Urban Development, including the authority to redelegate to the employees of HUD any of the authority delegated under this section.

Section B. Authority Excepted

The authority delegated in Section A of this Notice does not include the authority to sue and be sued or the authority to appoint Inferior Officers of the Department of Housing and Urban Development covered by the Appointments Clause of the United States Constitution, Art. II, section 2, cl. 2.

Section C. Authority Superseded

This delegation supersedes all previous Delegations of Authority to the Deputy Secretary of the Department of Housing and Urban Development, including the Delegation of Concurrent Authority to the Deputy Secretary published in the Federal Register on November 7, 2012 (77 FR 66864).

Authority: Section 7(d), Department of Housing and Urban Development Act (42 U.S.C. 3535(d)).

Dated: June 21, 2023.
Marcia L. Fudge,
Secretary of Housing and Urban Development.

[FR Doc. 2023-13584 Filed 6-26-23; 8:45 am]

BILLING CODE P